DEPARTMENT OF THE INTERIOR

Bureau of Land Management

[LLAK930000.L13100000.EI0000.241A]

Call For Nominations and Comments for the 2013 National Petroleum Reserve in Alaska Oil and Gas Lease Sale

AGENCY: Bureau of Land Management, Interior.

ACTION: Notice.

SUMMARY: The Bureau of Land Management (BLM) Alaska State Office is issuing a call for nominations and comments on tracts for oil and gas leasing for the 2013 National Petroleum Reserve in Alaska (NPR-A) oil and gas lease sale. A map of the NPR-A showing available areas is online at http://www.blm.gov/ak.

DATES: BLM-Alaska must receive all nominations and comments on these tracts for consideration on or before July 18, 2013.

ADDRESSES: Mail nominations and/or comments to: State Director, Bureau of Land Management, Alaska State Office, 222 West 7th Ave., Mailstop 13; Anchorage, AK 99513-7504. Before including your address, phone number, email address, or other personal identifying information in your nominations and/or comment, you should be aware that your entire comment—including your personal identifying information—may be made publicly available at any time. While you can ask us in your comment to withhold your personal identifying information from public review, we cannot guarantee that we will be able to do so.

FOR FURTHER INFORMATION CONTACT: Wayne Svejnoha, BLM-Alaska Energy and Minerals Branch Chief, 907-271-4407. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: When describing tracts nominated for leasing or providing comments please use the NPR-A maps, legal descriptions of the tracts, and additional information available through the BLM-Alaska Web site at http://www.blm.gov/ak.

Authority: 43 CFR 3131.2.

Bud Cribley,
State Director.

[FR Doc. 2013-13080 Filed 5-31-13; 8:45 am]

BILLING CODE 4310-JA-P